DEPARTMENT OF THE INTERIOR

National Park Service

[NPS-WASO-NAGPRA-NPS0037236; PPWOCRADN0-PCU00RP14.R50000]

Notice of Intent To Repatriate Cultural Items: Detroit Institute of Arts, Detroit, MI

AGENCY: National Park Service, Interior.

ACTION: Notice.

SUMMARY: In accordance with the Native American Graves Protection and Repatriation Act (NAGPRA), the Detroit Institute of Arts intends to repatriate certain cultural items that meet the definition of unassociated funerary objects and objects of cultural patrimony and that have a cultural affiliation with the Indian Tribes or Native Hawaiian organizations in this notice. The cultural items were removed from unknown locations in Alaska.

DATES: Repatriation of the cultural items in this notice may occur on or after February 15, 2024.

ADDRESSES: Denene De Quintal Ph.D., Detroit Institute of Arts, 5200 Woodward Avenue, Detroit, MI 48202, telephone (313) 578-1067, email NAGPRA@dia.org.

SUPPLEMENTARY INFORMATION: This notice is published as part of the National Park Service's administrative responsibilities under NAGPRA. The determinations in this notice are the sole responsibility of the Detroit Institute of Arts. The National Park Service is not responsible for the determinations in this notice. Additional information on the determinations in this notice, including the results of consultation, can be found in the summary or related records held by the Detroit Institute of Arts.

Description

Four cultural items and two unassociated funerary objects were removed from an unknown location in Alaska. Between the years 1871-1895, Frederick Stearns acquired these items and later bequeathed them to the Detroit Institute of Arts (DIA) in 1907. The four objects of cultural patrimony include a Gooch Shádaa (Wolf Headdress) (72.488); a Weix' S'eek Daakeit (Sculpin Tobacco Pipe) (72.490); a Xixch' S'eek Daakeit (Frog Tobacco Pipe) (72.491); and a Kaashishxaaw S'eek Daakeit (Dragonfly Pipe) (72.496), and one unassociated funerary object is a Bear Tooth amulet (99.5B2318). One unassociated funerary object was removed from an unknown location in Alaska. The cultural item was acquired by Caleb Lyon and subsequently sold to Frederick Stearns between the years 1871-1895. Mr. Stearns bequeathed the item to the DIA in 1907 with the other objects listed above. The unassociated funerary object is a Naaxein k'ideit (Chilkat Apron) (99.5B5047).

One cultural item was removed from an unknown location in Alaska. Mrs. Bessie Visaya of Juneau, Alaska, initially obtained the item, which was later acquired by the Michael R. Johnson Gallery. The DIA purchased this object in 1977. The object of cultural patrimony is a Yaxté X'oow (Big Dipper Button Blanket) (77.61).

One cultural item was removed from an unknown location in Alaska. The cultural item was acquired by George E. Buchanan in 1923, who then donated the item to the Detroit News. The Detroit News loaned and then later donated the item to the DIA. The object of cultural patrimony is a Naaxein (Chilkat Blanket) (23.28).

One cultural item was removed from an unknown location in Alaska. The Carlebach Gallery in New York obtained the item from Rasmussen on an unknown date. In 1959, the DIA purchased the item from the gallery. The object of cultural patrimony is a Naaxein Kudás' (Chilkat Shirt) (59.265).

One unassociated funerary object was removed from an unknown location in Alaska. Henry Glover Stevens acquired the cultural item and later bequeathed it to his siblings. In 1934, they donated it to the DIA. The unassociated funerary object is a Sheishoox (Rattle) (34.49).

One unassociated funerary object was removed from an unknown location in Alaska. Richard A. Pohrt and Marion D. Pohrt purchased the item in 1990. They later donated it to the DIA in 1998. The unassociated funerary object is a shaman figure (1998.170).

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, kinship, linguistics, and oral tradition.

Determinations

Pursuant to NAGPRA and its implementing regulations, and after consultation with the appropriate Indian Tribes and Native Hawaiian organizations, the Detroit Institute of Arts has determined that:

• The four cultural items described above are reasonably believed to have been placed with or near individual human remains at the time of death or later as part of the death rite or ceremony and are believed, by a preponderance of the evidence, to have been removed from a specific burial site of a Native American individual.

• The seven cultural items described above have ongoing historical, traditional, or cultural importance central to the Native American group or culture itself, rather than property owned by an individual.

• There is a relationship of shared group identity that can be reasonably traced between the cultural items and the Central Council of the Tlingit & Haida Indian Tribes.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 15, 2024. If competing requests for repatriation are received, the Detroit Institute of Arts must determine the most appropriate requestor prior to repatriation. Requests for joint repatriation of the cultural items are considered a single request and not competing requests. The Detroit Institute of Arts is responsible for sending a copy of this notice to the Indian Tribe identified in this notice.

Authority: Native American Graves Protection and Repatriation Act, 25 U.S.C. 3003, and the implementing regulations, 43 CFR 10.8, 10.10, and 10.14.

Dated: January 9, 2024.
Melanie O'Brien,
Manager, National NAGPRA Program.

[FR Doc. 2024-00606 Filed 1-12-24; 8:45 am]

BILLING CODE 4312-52-P